DEPARTMENT OF ENERGY

Federal Energy Regulatory Commission

[Project No. 2105-089]

Notice of Intent To Prepare an Environmental Impact Statement, Scoping Meetings and Site Visits, and Soliciting Scoping Comments

April 25, 2003.

Take notice that the following hydroelectric application has been filed with Commission and is available for public inspection:

a. Type of Application: New Major License.

b. Project No.: 2105-089.

c. Date filed: October 23, 2002.

d. Applicant: Pacific Gas and Electric Company (PG&E).

e. Name of Project: Upper North Fork Feather River Project.

f. Location: On the North Fork Feather River, in the vicinity of the community of Chester, Plumas County, California, T28N, R7E. The project occupies 1,500 acres of land administered by the Forest Supervisors of the Lassen and Plumas National Forests.

g. Filed Pursuant to: Federal Power Act, 16 U.S.C. 791(a)—825(r).

h. Applicant Contacts: Mr. Randal Livingston, Lead Director, Hydro Generation Department, Pacific Gas and Electric Company, P.O. Box 770000 (N11C), San Francisco, CA, 94177, (415) 973-6950, and Ms. Janet Loduca, Attorney, Pacific Gas and Electric Company, P.O. Box 7442, San Francisco, CA, 94120-7442, (415) 973-0174.

i. FERC Contact: John Mudre, (202) 502-8902 or john.mudre@ferc.gov.

j. Deadline for filing scoping comments: June 20, 2003.

All documents (original and eight copies) should be filed with: Magalie R. Salas, Secretary, Federal Energy Regulatory Commission, 888 First Street, NE., Washington, DC 20426.

The Commission's Rules of Practice and Procedure require all interveners filing documents with the Commission to serve a copy of that document on each person on the official service list for the project. Further, if an intervener files comments or documents with the Commission relating to the merits of an issue that may affect the responsibilities of a particular resource agency, they must also serve a copy of the document on that resource agency.

Scoping comments may be filed electronically via the Internet in lieu of paper. The Commission strongly encourages electronic filings. See 18 CFR 385.2001(a)(1)(iii) and the instructions on the Commission's Web site ( http://www.ferc.gov ) under the “e-Filing” link.

k. This application is not ready for environmental analysis at this time.

l. The existing Upper North Fork Feather River Project consists of three dams and reservoirs, five powerhouses, tunnels and penstocks connecting the reservoirs to the powerhouses, 230kV and 115kV transmission facilities, and various roads, recreation facilities, and administrative facilities. Project reservoirs include Lake Almanor (1,142,251 acre-feet), Butt Valley Reservoir (49,891 acre-feet), and Belden Forebay (2,477 acre-feet). Powerhouses include Butt Valley Powerhouse (41 MW), Caribou No. 1 Powerhouse (75 MW), Caribou No. 2 Powerhouse (120 MW), Oak Flat Powerhouse (1.3 MW), and Belden Powerhouse (125 MW). The Applicant proposes no new facilities, but proposes to add 33.73 acres of lands of the Plumas National Forest to the project because of historical and future project use of these lands.

m. A copy of the application is available for review at the Commission in the Public Reference Room or may be viewed on the Commission's Web site at http://www.ferc.gov using the “FERRIS” link. Enter the docket number excluding the last three digits in the docket number field to access the document. For assistance, contact FERC Online Support at FERCOnlineSupport@ferc.gov or toll-free at 1-866-208-3676, or for TTY, (202) 502-8659. A copy is also available for inspection and reproduction at the address in item h above.

Register online at http://www.ferc.gov/esubscribenow.htm to be notified via e-mail of new filings and issuances related to this or other pending projects. For assistance, contact FERC Online Support.

n. Scoping Process: The Commission intends to prepare an Environmental Impact Statement (EIS) on the project in accordance with the National Environmental Policy Act. The EIS will consider both site-specific and cumulative environmental impacts and reasonable alternatives to the proposed action.

Scoping Meetings

FERC staff will conduct one agency scoping meeting and one public meeting. The agency scoping meeting will focus on resource agency and non-governmental organization (NGO) concerns, while the public scoping meeting is primarily for public input. All interested individuals, organizations, and agencies are invited to attend one or both of the meetings, and to assist the staff in identifying the scope of the environmental issues that should be analyzed in the EIS. The times and locations of these meetings are as follows:

Public Scoping Meeting

Date: Tuesday May 20, 2003.

Time: 7 p.m.

Place: Veterans Memorial Hall.

Address: 225 Gay Street, Chester, CA.

Agency Scoping Meeting

Date: Wednesday May 21, 2003.

Time: 10 a.m.

Place: Pacific Gas and Electric Company Facility.

Address: 460 Rio Lindo Road, Chico, CA.

Copies of the Scoping Document (SD1) outlining the subject areas to be addressed in the EIS were distributed to the parties on the Commission's mailing list. Copies of the SD1 will be available at the scoping meeting or may be viewed on the web at http://www.ferc.gov using the “FERRIS” link: enter the docket number excluding the last three digits in the docket number field to access the document. For assistance, contact FERC Online Support at FERCOnlineSupport@ferc.gov or toll-free at 1-866-208-3676, or for TTY, (202) 502-8659.

Site Visit

The Applicant and FERC staff will conduct a project site visit beginning at 9:30 a.m. on Monday May 19, 2003, and continuing at 9:30 a.m. on Tuesday May 20, 2003. All interested individuals, organizations, and agencies are invited to attend. All participants should meet at the parking area on the Lake Almanor Dam (also known as Canyon Dam) off Highway 89, just west of its intersection with Highway 147. All participants are responsible for their own transportation to the site. Anyone with questions about the site visit should contact Mr. Tom Jereb of PG&E at 415-973-9320.

Objectives

At the scoping meetings, the staff will: (1) Summarize the environmental issues tentatively identified for analysis in the EIS. (2) solicit from the meeting participants all available information, especially quantifiable data, on the resources at issue; (3) encourage statements from experts and the public on issues that should be analyzed in the EIS, including viewpoints in opposition to, or in support of, the staff's preliminary views; (4) determine the resource issues to be addressed in the EIS; and (5) identify those issues that require a detailed analysis, as well as those issues that do not require a detailed analysis.

Procedures

The meetings are recorded by a stenographer and become part of the formal record of the Commission proceeding on the project.

Individuals, organizations, and agencies with environmental expertise and concerns are encouraged to attend the meeting and to assist the staff in defining and clarifying the issues to be addressed in the EIS.

Magalie R. Salas,
Secretary.

[FR Doc. 03-10769 Filed 4-30-03; 8:45 am]

BILLING CODE 6717-01-P